DEPARTMENT OF THE INTERIOR

Bureau of Land Management/National Park Service

[NM-930-01-1050-DS-005G]

Notice of Intent To Prepare a Comprehensive Management Plan, Including Possible Resource Management Plan Amendments for the El Camino Real de Tierra Adentro National Historic Trail; New Mexico and Texas

AGENCY: Bureau of Land Management, National Park Service, Interior.

ACTION: Notice of intent to prepare a Comprehensive Management Plan, including possible Resource Management Plan Amendments and an invitation to the public to participate in the planning process.

SUMMARY: Pursuant to the National Trails System Act, as amended (Pub. L. 90-543), the National Park Service (NPS) and the Bureau of Land Management (BLM) are initiating preparation of a Comprehensive Management Plan (CMP) for the El Camino Real de Tierra Adentro National Historic Trail in New Mexico and Texas. The trail passes through four BLM Field Office administrative areas with five existing Resource Management Plans (RMPs) and there may be a need to amend one or more of these Plans. The RMPs that have the possibility of being amended are: (1) Taos RMP, (2) Rio Puerco RMP, (3) Socorro RMP, (4) White Sands RMP, and (5) Mimbres RMP.

The public is invited to participate in each stage of the planning process, and public meetings will be held. The initial scoping meetings will occur at 6:30 p.m. at the following locations: Alcalde, New Mexico (Oñate Visitor Center, State Road 68,)—June 25, 2001; Santa Fe, New Mexico (Genoveva Chavez Community Center, 3221 Rodeo Road)—June 28, 2001; Albuquerque, New Mexico (National Hispanic Cultural Center of New Mexico, 1701 Fourth Street, N.W.)—June 22, 2001; Socorro, New Mexico (Holiday Inn Express, 1100 California Avenue)—June 19, 2001; Truth or Consequences, New Mexico (T or C Civic Center, 505 Sims Street)—June 18, 2001; Las Cruces, New Mexico (Farm and Ranch Heritage Museum, Dripping Springs Road)—June 13, 2001; El Paso, Texas (Chamizal National Memorial, 800 S. San Marcial)—June 14, 2001.

DATES: Written comments relating to the planning process will be accepted on or before July 16, 2001, and should be addressed to Harry Myers at the address below.

FOR FURTHER INFORMATION CONTACT: Harry Myers, National Park Service, P.O. Box 728, Santa Fe, NM 87504-0728, phone (505) 988-6717, fax (505) 986-5214 or Terry Humphrey, Bureau of Land Management, 226 Cruz Alta Road, Taos, NM 87571; phone (505) 758-8851, fax (505) 758-1620.

SUPPLEMENTARY INFORMATION: The National Park Service Long Distance Trails Group Office—Santa Fe and the Bureau of Land Management, New Mexico State Office, are the lead offices for preparation of the plan, and both are responsible for administering the trail as per agency agreement. They will coordinate with the public, various Federal agencies, tribal governments, and local and state governments in the plan's development. Consultation will be an important factor to the process and should be an integral part of the planning team's efforts. Once an advisory council has been formed as required by section 5(d) of the National Trails System Act, the study team will work closely with that body.

The purpose of the Comprehensive Management Plan will be to establish the administrative objectives, policies, processes, and management actions needed to fulfill the preservation and public use goals of the El Camino Real de Tierra Adentro National Historic Trial. It will be comprehensive in nature, and will resolve or address issues along the El Camino Real de Tierra Adentro National Historic Trail which are identified through agency, interagency, and public scoping efforts.

The purpose of a National Historic Trail is the identification and protection of the historic route and its historic remnants and artifacts for public use and enjoyment. National Historic Trails are extended trails that follow as closely as possible and practicable original routes of travel that are historically significant. The designation of such trails or routes is to be continuous, but the established or developed trails are not necessarily continuous land areas; they may include portions or sections of land areas, land and water segments, or other specific sites.

Existing trail segments already in Federal ownership will become the initial components of the National Trail. Other trail segments could be developed and protected through various means such as cooperative and certification agreements, easements, and actions by private organizations. Generally, there would be little if any acquisition of private lands, and then only with the landowner's consent.

The plan will explain or identify the desired future conditions to be maintained or achieved, administrative and management actions necessary to achieve objectives, and a schedule and a cost estimate for implementing the actions for achieving those goals. Through these actions, the El Camino Real de Tierra Adentro Historic Trail will be administered and managed according to the intent of Congress, as expressed in the establishing legislation and the National Trails System Act.

The joint BLM/NPS administration of the El Camino Real de Tierra Adentro National Historic Trail must rely on the cooperative management efforts and support of state, local, and private interests, including landowners, to ensure the protection of trail-related resources, to provide outdoor recreational opportunities, and to accomplish the objectives of the interpretive programs.

Consistent with the National Trails System Act, the NPS/BLM administrative role will be to set goals, stimulate public support and partnerships, provide technical and limited financial assistance and other incentives, manage trail marker use, and otherwise coordinate, facilitate, and monitor management and use of the trail. Therefore, public agencies and private interests at the grassroots will be encouraged to mark the trail route, seek certification, secure necessary interests in lands, provide for the preservation of the trail's resources, ensure the upkeep and accessibility of sites and segments for public educational and recreational benefits, and perform the day-to-day management of their own sites and areas.

Within this partnership both agencies will work to ensure that the trail is managed as a single, integrated resource, with the Comprehensive Management Plan providing overall guidance for trail management. The Comprehensive Management Plan will identify the various tasks of administration and the means of carrying out those tasks. It will define the relationships between administration and the day-to-day management of the trail and outline effective strategies for achieving plan implementation.

The Comprehensive Management Plan will identify objectives to guide the establishment of a cooperative management system for the El Camino Real de Tierra Adentro National Historic Trail. It will also describe a certification process for non-Federal trail sites/segments and identify the role that existing Federal land management agencies along the trail will play in the plan implementation.

The plan will define the criteria that will be used to select sites suitable for interpretation, preservation, recreational retracement, and potential development support. It will tell how to define priorities for marking, protection, and potential public use and it will describe what strategies are most appropriate for resource protection. The issue of potential liability and impacts upon landowners will be addressed. The promotion and coordination of the tourism potential of the trail will also be addressed.

The establishment law authorizes cooperation with United States and Mexican public and nongovernmental organizations, academic institutions, and, in consultation with the Secretary of State, the government of Mexico and its political subdivisions, for the purpose of exchanging trail information and research, fostering trail preservation and educational programs, providing technical assistance, and working to establish an international historic trail with complementary preservation and education programs in each nation.

The legislation also stated that: (1) The El Camino Real de Tierra Adentro (the Royal Road to the Interior Lands), served as the primary route between the colonial Spanish capital of Mexico City and the Spanish provincial capitals at San Juan de Los Caballeros (1598-1600), San Gabriel (1600-1609) and then Santa Fe (1610-1821); (2) The portion of the El Camino Real de Tierra Adentro that resided in what is now the United States extended between El Paso, Texas, and present San Juan Pueblo, New Mexico, a distance of 404 miles; (3) The El Camino Real is a symbol of the cultural interaction between nations and ethnic groups and of the commercial exchange that made possible the development and growth of the borderland; (4) American Indian groups, especially the Pueblo Indians of the Rio Grande, developed trails for trade long before Europeans arrived; (5) In 1598, Juan de Onãte led a Spanish military expedition along those trails to establish the northern portion of the El Camino Real; (6) During the Mexican National Period and part of the U.S. Territorial Period, the El Camino Real de Tierra Adentro facilitated the emigration of people to New Mexico and other areas that would become the United States; (7) The exploration, conquest, colonization, settlement, religious conversion, and military occupation of a large area of the borderlands was made possible by this route, whose historical period extended from 1598 to 1882; (8) American Indians, European emigrants, miners, ranchers, soldiers, and missionaries used the El Camino Real during the historic development of the borderlands. These travelers promoted cultural interaction among Spaniards, other Europeans, American Indians, Mexicans, and Americans; (9) The El Camino Real fostered the spread of Catholicism, mining, an extensive network of commerce, and ethnic and cultural traditions including music, folklore, medicine, foods, architecture, language, place names, irrigation systems, and Spanish law.

The following preliminary criteria were developed internally and will be reviewed by the public before used in the Comprehensive Management Plan/RMP Amendment/Environmental Impact Statement process. After public input analysis, they become proposed criteria, and can be added to or changed as the issues are addressed or new information is presented: (1) The plan should be completed in compliance with Sec. 5(a) of the National Trails System Act and all other applicable laws. It will meet the requirements of P.L. 106-307 to protect the trail's natural and historic resources and recreation opportunities; (2) The planning team should work cooperatively with the State of New Mexico, tribal governments, county and municipal governments, other Federal agencies, and all other interested groups, agencies, and individuals. Public participation will be encouraged throughout the process; (3) The planning process will include an Environmental Impact Statement that will comply with NEPA and Council on Environmental Quality guidelines; (4) The plan will emphasize the protection and enhancement of the historic values of the Trail, while providing the public with opportunities for compatible recreation activities; (5) Development and management of each segment of the National Trails System shall be designed to harmonize with, and complement, any established multiple-use plans for the specific area in order to ensure continued maximum benefits from the land (National Trails System Act, Sec 7. (a)(2); (6) The lifestyles and concerns of area residents, including the activities of grazing and hunting, will be recognized in the plan; (7) Any lands along the trail which are acquired by federal agencies from willing sellers to accomplish purposes for which the trail was designated will be managed consistent with the National Trails System Act; (8) The planning process will involve American Indian tribal governments and will provide strategies for the protection of recognized traditional uses; (9) Decisions in the plan should strive to be compatible with the existing plans and policies of adjacent local, State and Federal agencies as long as the decisions are in conformance with Congressional direction and federal laws, regulation and policy; (10) The location of the trail has been determined by historical information and actual field surveys and will be further refined using Geographic Information Systems.

A range of alternatives, including a No Action alternative, will be developed to respond to the issues identified at the outset of the process. Each alternative will provide different solutions to the issues and concerns brought out. The objective in alternative formulation will be to develop realistic, implementable solutions that represent a complete plan, in and of themselves. The public will assist in the development of a range of alternatives during the community workshops. Preliminary issues and management concerns include: (1) How the historic, scenic and natural resources of the trail will be preserved; (2) How management of the trail will affect activities and use by the public; (3) How trail management will be integrated with tribal and other government agency and community plans; (4) Availability of opportunities to provide visitor services, education and/or recreation; (5) Incorporation of international interest in the trail; and (6) Effect of National Historic Trail designation on private property.

A preliminary public participation plan has been developed and sets forth the methods by which the public has the opportunity to be informed and involved so they can participate effectively in the planning and NEPA process. The public involvement process will focus on an interactive dialogue of information that will result in the exchange of constructive ideas, alternatives and new possibilities for mitigating potential environmental impact associated with this project.

The plan will also be responsive to the requirements of Presidential Executive Order 12898 on Environmental Justice. This Executive Order requires Federal agencies to identify potential disproportionate impacts on low income and minority communities. In addition, the Executive Order requires each Federal agency to provide opportunities for community input in the NEPA process, including identifying potential effects and mitigation measures in consultation with affected communities and improving accessibility of meetings, crucial documents and notices.

This project impacts multiple agencies and local governmental jurisdictions. It is important to have roles and responsibilities, as well as input of the affected entities, established at the outset. The BLM and NPS will engage other affected or potentially interested Federal agencies, North American Indian tribes, state and county government, and international partners, early in the EIS process. Their opinions on issues, scope of work, decisions to be made, and process are essential to the EIS process. Documents pertinent to the Environmental Impact Statement, such as Land and Resource Management Plans, Resource Management Plans, State codes and regulations, County and City zoning, and land use policies, need to be identified during this stage. Ongoing communication throughout the project is vital. The Bureau of Land Management and the National Park Service are committed to a collaborative planning approach.

Contact Terry Humphrey, BLM, El Camino Real Planning Team Leader at Taos Field Office, 226 Cruz Alta Road, Taos, New Mexico 87571 or Harry Myers, NPS, El Camino Real Planning Team Leader at P.O. Box 728, Santa Fe, New Mexico 87504-0728 for additional information.

Dated: May 9, 2001.
Carsten F. Goff,
Acting State Director, BLM—New Mexico.
Michael D. Snyder,
Acting Director, NPS, Intermountain Region.

[FR Doc. 01-12508 Filed 5-17-01; 8:45 am]

BILLING CODE 4310-AG-M